DEPARTMENT OF EDUCATION

Notice of Proposed Information Collection Requests; Office of Postsecondary Education; Higher Education Opportunity Act (HEOA) Title II Reporting Forms on Teacher Quality and Preparation

SUMMARY: The Higher Education Opportunity Act of 2008 calls for annual reports from states and institutions of higher education (IHEs) on the quality of teacher preparation and state teacher certification and licensure (Pub. L. 110-315, sections 205-208). The purpose of the reports is to provide greater accountability in the preparation of the nation's teaching forces and to provide information and incentives for its improvement.

DATES: Interested persons are invited to submit comments on or before August 17, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04871. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Opportunity Act (HEOA) Title II Reporting Forms on Teacher Quality and Preparation.

OMB Control Number: 1840-0744.

Type of Review: Revision.

Total Estimated Number of Annual Responses: 1,309.

Total Estimated Number of Annual Burden Hours: 235,961.

Abstract: The Higher Education Opportunity Act of 2008 calls for annual reports from states and institutions of higher education (IHEs) on the quality of teacher preparation and state teacher certification and licensure (Pub. L. 110-315, sections 205-208). The purpose of the reports is to provide greater accountability in the preparation of the nation's teaching forces and to provide information and incentives for its improvement. IHEs that have teacher preparation programs must report annually to their states on the performance of their program completers on teacher certification or licensure tests. States, in turn, must report test performance information, institution by institution, to the Secretary of Education. They must also report on their requirements for teacher certification and licensure, state standards, alternative routes to certification, low performing teacher preparation programs and related items.

Dated: June 13, 2012.
Darrin A. King,
Director, Information Collection Clearance Division, Privacy, Information and Records Management Services, Office of Management.

[FR Doc. 2012-14809 Filed 6-15-12; 8:45 am]

BILLING CODE 4000-01-P